DELAWARE RIVER BASIN COMMISSION

Notice of Public Hearing and Business Meeting August 16 and September 14, 2017

Notice is hereby given that the Delaware River Basin Commission will hold a public hearing on Wednesday, August 16, 2017 at the Washington Crossing Historic Park Visitor Center, 1112 River Road, Washington Crossing, Pennsylvania. A business meeting will be held the following month on Wednesday, September 13, 2017 at the Linksz Pavilion, Bucks County Community College, 275 Swamp Road, Newtown, Pennsylvania. The hearing and meeting are open to the public.

Public Hearing. The public hearing on August 16, 2017 will begin at 1:30 p.m. Hearing items will include draft dockets for withdrawals, discharges, and other water-related projects subject to the Commission's review.

The list of projects scheduled for hearing, including project descriptions, will be posted on the Commission's Web site, www.drbc.net, in a long form of this notice at least ten days before the hearing date. Any draft resolutions scheduled for hearing also will be posted at www.drbc.net ten or more days prior to the hearing.

Written comments on matters scheduled for hearing on August 16 will be accepted through 5:00 p.m. on August 21. Time permitting, an opportunity for Open Public Comment will be provided upon the conclusion of Commission business at the September 13 Business Meeting; in accordance with recent format changes, this opportunity will not be offered upon completion of the Public Hearing.

The public is advised to check the Commission's Web site periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on September 13, 2017 will begin at 10:30 a.m. and will include: Adoption of the Minutes of the Commission's June 14, 2017 Business Meeting, announcements of upcoming meetings and events, a report on hydrologic conditions, reports by the Executive Director and the Commission's General Counsel, and consideration of any items for which a hearing has been completed or is not required. The latter are expected to include resolutions: (1) Authorizing the Executive Director to enter into an agreement with the Wildlands Conservancy for project services associated with dam removals to be performed as mitigation for natural resource damages associated with the 2005 ash slurry spill from the PPL Martins Creek Steam Electric Station in Lower Mount Bethel Township, Pa.; (2) authorizing the Executive Director to establish a purchasing card (“P-Card”) system for making electronic payments for certain Commission expenses; and (3) providing for replacement of the 1970's-era HVAC system at the Commission's West Trenton office building. After all scheduled business has been completed and as time allows, the Business Meeting will also include up to one hour of Open Public Comment.

There will be no opportunity for additional public comment for the record at the September 13 Business Meeting on items for which a hearing was completed on August 16 or a previous date. Commission consideration on September 13 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on August 16 or to address the Commissioners informally during the Open Public Comment portion of the meeting on September 13 as time allows, are asked to sign-up in advance through EventBrite, the online registration process recently introduced by the Commission. Links to EventBrite for the Public Hearing and the Business Meeting are available at drbc.net. For assistance, please contact Ms. Paula Schmitt of the Commission staff, at paula.schmitt@drbc.nj.gov.

Addresses for Written Comment. Written comment on items scheduled for hearing may be made through SmartComment, the web-based comment system recently introduced by the Commission, a link to which is posted at drbc.net. Although use of SmartComment is strongly preferred, comments may also be delivered by hand at the public hearing; or by hand, U.S. Mail or private carrier to Commission Secretary, P.O. Box 7360, 25 Cosey Road, West Trenton, NJ 08628. For assistance, please contact Paula Schmitt at paula.schmitt@drbc.nj.gov.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Additional Information, Contacts. Additional public records relating to hearing items may be examined at the Commission's offices by appointment by contacting Carol Adamovic, 609-883-9500, ext. 249. For other questions concerning hearing items, please contact Judith Scharite, Project Review Section assistant at 609-883-9500, ext. 216.

Dated: July 25, 2017.
Pamela M. Bush,
Commission Secretary and Assistant General Counsel.

[FR Doc. 2017-16041 Filed 7-28-17; 8:45 am]

BILLING CODE 6360-01-P